DEPARTMENT OF ENERGY

Office of Energy Efficiency and Renewable Energy

Pre-Announcement Meeting Notice for Financial Assistance Funding Opportunity Announcement (FOA) Number DE-PS36-07GO97012

AGENCY: Office of Energy Efficiency and Renewable Energy, DOE.

ACTION: Notice of Pre-Announcement Meeting for Manufacturing Research and Development for Hydrogen and Fuel Cell Systems FOA.

SUMMARY: The Hydrogen, Fuel Cells and Infrastructure Technologies Program, under the DOE Office of Energy Efficiency and Renewable Energy, is planning to solicit financial assistance applications for cost-shared financial assistance agreements with the DOE for research and development that will advance manufacturing technologies for hydrogen and fuel cell systems. This Pre-Announcement Meeting will allow sources outside of DOE to review and comment on the proposed topics and scope of the planned announcement.

DATES: Pre-Announcement Meeting to be held 1 p.m. EDT, May 18, 2007.

ADDRESSES: The Pre-Announcement Meeting will be held at the Crystal Gateway Marriott, 1700 Jefferson Davis Highway, Arlington, VA 22202.

FOR FURTHER INFORMATION CONTACT: Jill Gruber, Project Officer, via e-mail at jill.gruber@go.doe.gov. Further information on DOE's Hydrogen, Fuel Cells and Infrastructure Technologies Program can be viewed at http://www.eere.energy.gov/hydrogenandfuelcells.

SUPPLEMENTARY INFORMATION: During the Pre-Announcement Meeting, DOE is planning on reviewing the scope, topics and application process for the Manufacturing Research and Development for Hydrogen and Fuel Cell Systems FOA. Questions and comments will be solicited and answered about the content and scope of the FOA, including suggestions for research and development areas, clarification on proposed topics, and clarification on the application process and requirements. Proceedings from the meeting will be posted on the Web site at http://www.eere.energy.gov/hydrogenandfuelcells. DOE intends to release the FOA around June of 2007, with award(s) to be made about a year later.

Dated: Issued in Golden, CO, on May 7, 2007.
Matthew A. Barron,
Acting Procurement Director, Golden Field Office.

[FR Doc. 07-2390 Filed 5-14-07; 8:45 am]

BILLING CODE 6450-01-M